NATIONAL AERONAUTICS AND SPACE ADMINISTRATION

[Notice (17-088)]

NASA Federal Advisory Committees; Public Nominations

AGENCY: National Aeronautics and Space Administration.

ACTION: Invitation for Public Nominations of U.S. Citizens for Potential Service on the National Space Council Users' Advisory Group.

REF: Federal Register, Vol. 82, No. 237, Tuesday, December 12, 2017, 58452. National Aeronautics and Space Administration; Notice 17-088; National Space Council Users' Advisory Group; Establishment.

SUMMARY: Further to the NASA Federal Register notice of December 12, 2017 (see citation above), NASA announces an invitation for public nominations of U.S. citizens to serve as potential members of the National Space Council Users' Advisory Group (UAG). The UAG is a new Federal advisory committee under the Federal Advisory Committee Act (FACA) being established pursuant to the National Aeronautics and Space Administration Authorization Act, Fiscal Year 1991 (Pub. L. 101-611, Section 121) and Executive Order 13803, Section 6 (“Reviving the National Space Council”) signed by the President on June 30, 2017. The UAG is purely advisory and will ensure that the interests of industry and other non-Federal entities are adequately represented in the deliberations of the National Space Council. NASA is sponsoring the UAG on behalf of the National Space Council, an Executive Branch interagency coordinating committee chaired by the Vice President, which is tasked with advising and assisting the President on national space policy and strategy. Members of the UAG will serve either as “Representatives” (representing industry, other non-Federal entities, and other recognizable groups of persons involved in aeronautical and space activities), or as “Special Government Employees” (individual subject matter experts or consultants).

Deadline: The deadline for NASA to receive all public nominations is January 10, 2018.

Instructions for Public Nominations: U.S. citizens or organizations may nominate individuals for consideration as potential members of the UAG. Interested candidates may also self-nominate. The candidate must be a U.S. citizen, may not be a regular government employee, and must not be registered by the Department of Justice under the Foreign Agents Registration Act (FARA), 22 U.S.C. 611 et seq. Additionally, a candidate for a Special Government Employee appointment must not be federally registered as a lobbyist under the Lobbying Disclosure Act of 1995, 2 U.S.C. 1602, as amended. Nominations must be contained in an email to NASA attaching the required documents. All nominations should include a cover letter, a resume (including contact information for the individual) and a professional biography demonstrating professional stature, knowledge and experience commensurate with achieving the UAG's purpose as set forth in Public Law 101-611, Section 121. Each document must not exceed one page. The cover letter must be a signed letter saved as a PDF file, indicate the category of membership for which the individual is being nominated (“Representative” or “Special Government Employee”), and contain an affirmative statement that the individual meets all aforesaid requirements. Cover letters for Representative nominations must also indicate why the individual should be considered for membership relative to the UAG's representational objectives, and be on the supporting organization's letterhead. Cover letters for Special Government Employee nominations must also identify the subject area(s) where the individual's expertise and/or consultative stature is nationally recognized relative to the UAG's advisory objectives. Nominations must be submitted in a single email attaching the cover letter, resume, and professional biography to HQ-UAGnoms@nasa.gov. Hard copies such as paper documents sent through postal mail will not be accepted.

Privacy Act Notification: The information provided in response to this announcement will support membership selection of the National Space Council Users' Advisory Group (UAG). Its collection is authorized by the Federal Advisory Committee Act (FACA), Public Law 92-463, 5 U.S.C. App., as amended; 5 U.S.C. 3109; Title V of Public Law 100-685; Public Law 101-611, Section 121; Executive Order 13803 of June 30, 2017, Section 6; and 44 U.S.C. 3101. Providing this information is voluntary, but not providing it or not providing it as requested may result in information or an individual not being considered in the UAG membership selection process. NASA may share this information for authorized purposes consistent with the purpose for which it is collected. Elaboration and conditions of information disclosure may be found under “Routine Uses” of the full System of Records Notice for System 10SPER, “Special Personnel Records” (15-118, 81 FR 10, pp. 2244-2247) at https://www.gpo.gov/fdsys/pkg/FR-2016-01-15/pdf/2016-00689.pdf and in Appendix B (11-091, 76 FR 200, pp. 64112-64114) at https://www.gpo.gov/fdsys/pkg/FR-2011-10-17/pdf/2011-26731.pdf.

FOR FURTHER INFORMATION CONTACT: For any questions, please contact the UAG Designated Federal Officer/Executive Secretary, Dr. Jeff Waksman, Office of the Administrator, NASA Headquarters, Washington, DC 20546, email: jeff.l.waksman@nasa.gov; phone: 202-358-3758.

Patricia D. Rausch,
Advisory Committee Management Officer, National Aeronautics and Space Administration.

[FR Doc. 2017-27211 Filed 12-15-17; 8:45 am]

BILLING CODE 7510-13-P